DEPARTMENT OF DEFENSE

Office of the Secretary

[Transmittal No. 21-69]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 21-69 and Policy Justification.

Dated: November 1, 2024.
Stephanie J. Bost,
Alternate OSD Federal Register Liaison Officer, Department of Defense.

BILLING CODE 6001-FR-P

BILLING CODE 6001-FR-C

Transmittal No. 21-69

Notice of Proposed Issuance of Letter of Offer Pursuant to Section 36(b)(1) of the Arms Export Control Act, as amended

(i) Prospective Purchaser: Kingdom of Saudi Arabia

(ii) Total Estimated Value:

Major Defense Equipment * | $ 0 million
Other | $500 million
TOTAL | $500 million

Funding Source: National Funds

(iii) Description and Quantity or Quantities of Articles or Services under Consideration for Purchase:

Major Defense Equipment (MDE):

None

Non-MDE:

A Foreign Military Sales Order (FMSO) II to provide funds for blanket order requisitions under a Cooperative Logistics Supply Support Agreement (CLSSA) for common spares/repair parts to support the Royal Saudi Land Force's (RSLF) fleet of Abrams tanks, M-60 tanks, Bradley Fighting Vehicles, mortar carriers, Combat Engineer Vehicles, High Mobility Multipurpose Wheeled Vehicles (HMMWVs), Mine Resistance Ambush Protected (MRAP) vehicles, Light Armored Vehicles (LAVs), howitzers, additional support vehicles, components & accessories, pistols, rifles, crew-served weapons, recoilless rifles, mortars, vehicle periscopes, night vision devices, TOW launchers and missile parts, computer units, radar sets, generators, testing/calibration equipment, communication equipment and other related elements of logistics and program support.

(iv) Military Department: Army (SR-B-KYZ)

(v) Prior Related Cases, if any: SR-B-UBW, SR-B-KRK, SR-B-KSB, SR-B-KYL, SR-KYM, SR-B-KYN

(vi) Sales Commission, Fee, etc., Paid, Offered, or Agreed to be Paid: None

(vii) Sensitivity of Technology Contained in the Defense Article or Defense Services Proposed to be Sold: None

(viii) Date Report Delivered to Congress: September 21, 2023

* As defined in Section 47(6) of the Arms Export Control Act.

POLICY JUSTIFICATION

Saudi Arabia—Cooperative Logistics Supply Support Arrangement (CLSSA) Program, Foreign Military Sales Order (FMSO) II

The Kingdom of Saudi Arabia has requested to buy a Foreign Military Sales Order (FMSO) II to provide funds for blanket order requisitions under a Cooperative Logistics Supply Support Agreement (CLSSA) for common spares/repair parts to support the Royal Saudi Land Force's (RSLF) fleet of Abrams tanks, M-60 tanks, Bradley Fighting Vehicles, mortar carriers, Combat Engineer Vehicles, High Mobility Multipurpose Wheeled Vehicles (HMMWVs), Mine Resistance Ambush Protected (MRAP) vehicles, Light Armored Vehicles (LAVs), howitzers, additional support vehicles, components & accessories, pistols, rifles, crew-served weapons, recoilless rifles, mortars, vehicle periscopes, night vision devices, TOW launchers and missile parts, computer units, radar sets, generators, testing/calibration equipment, communication equipment and other related elements of logistics and program support. The total estimated program cost is $500 million.

This proposed sale will support U.S. foreign policy and national security objectives by supporting a strategic partner's self-defense and promoting stability in the Middle East.

The proposed sale will maintain Saudi Arabia's capability to meet current and future threats by allowing the RSLF to continue to purchase needed spare/repair parts, through their current CLSSA program, to replenish in-country stocks required for general maintenance and sustain the operability of RSLF equipment. The RSLF has participated in the CLSSA program since 1965 and will have no difficulty absorbing these items into its armed forces.

The proposed sale of this equipment and support will not alter the basic military balance in the region.

There are no principal contractors involved with this potential sale. There are no known offset agreements proposed in connection with this potential sale.

Implementation of this proposed sale will not require the permanent assignment of any U.S. Government or contractor representatives to Saudi Arabia.

There will be no adverse impact on U.S. defense readiness as a result of this proposed sale.

[FR Doc. 2024-25823 Filed 11-5-24; 8:45 am]

BILLING CODE 6001-FR-P